DEPARTMENT OF COMMERCE

Foreign-Trade Zones Board

[S-173-2018]

Approval of Subzone Status: BAUER-Pileco Inc., Conroe, Texas

On October 19, 2018, the Executive Secretary of the Foreign-Trade Zones (FTZ) Board docketed an application submitted by the Port of Houston Authority, grantee of FTZ 84, requesting subzone status subject to the existing activation limit of FTZ 84, on behalf of BAUER-Pileco Inc., in Conroe, Texas.

The application was processed in accordance with the FTZ Act and Regulations, including notice in the Federal Register inviting public comment (83 FR 53850, October 25, 2018). The FTZ staff examiner reviewed the application and determined that it meets the criteria for approval.

Pursuant to the authority delegated to the FTZ Board's Executive Secretary (15 CFR Sec. 400.36(f)), the application to establish Subzone 84Z was approved on December 6, 2018, subject to the FTZ Act and the Board's regulations, including Section 400.13, and further subject to FTZ 84's 2,000-acre activation limit.

Dated: December 6, 2018.
Andrew McGilvray,
Executive Secretary.

[FR Doc. 2018-26871 Filed 12-11-18; 8:45 am]

BILLING CODE 3510-DS-P